DEPARTMENT OF TRANSPORTATION

Federal Aviation Administration

14 CFR Part 39

[Docket No. FAA-2012-0659; Directorate Identifier 2011-SW-061-AD; Amendment 39-17101; AD 2012-12-21]

RIN 2120-AA64

Airworthiness Directives; Eurocopter Deutschland GmbH Helicopters

AGENCY: Federal Aviation Administration (FAA), DOT.

ACTION: Final rule; request for comments; correction.

SUMMARY: The FAA is correcting an airworthiness directive (AD) that was published in the Federal Register. That AD applies to Eurocopter Deutschland GmbH Model MBB-BK 117 C-2 helicopters. A page reference of the rotorcraft flight manual in the Required Actions section, paragraph (e)(1)(i), is incorrect. This document corrects that error. In all other respects, the original document remains the same.

DATES: This correction is effective August 17, 2012. The effective date for AD 2012-12-21 remains July 10, 2012. The last date for submitting comments to the final rule; request for comments remains August 24, 2012.

ADDRESSES: You may examine the AD docket on the Internet at http://www.regulations.gov; or in person at the Docket Operations Office between 9 a.m. and 5 p.m., Monday through Friday, except Federal holidays. The AD docket contains this AD, any incorporated-by-reference service information, the economic evaluation, any comments received, and other information. The street address for the Docket Operations Office (phone: 800-647-5527) is U.S. Department of Transportation, Docket Operations Office, M-30, West Building Ground Floor, Room W12-140, 1200 New Jersey Avenue SE., Washington, DC 20590.

FOR FURTHER INFORMATION CONTACT: George Schwab, Aviation Safety Engineer, FAA, Rotorcraft Directorate, Safety Management Group, 2601 Meacham Blvd., Fort Worth, TX 76137, telephone (817) 222-5110, email: george.schwab@faa.gov.

SUPPLEMENTARY INFORMATION: Airworthiness Directive 2012-12-21, Amendment 39-17101 (77 FR 37777, June 25, 2012), currently includes the following paragraph (e)(1)(i) in the Required Actions section:

“(i) “Emergency and Malfunction Procedures”: pages 3-3 and 3-4, and”

As published, the reference to page 3-4 is incorrect. The correct reference is to page 3-3a.

No other part of the preamble or regulatory information has been changed; therefore, only the changed portion of the final rule is being published in the Federal Register.

Correction of Regulatory Text

§ 39.13 [Corrected]

In the Federal Register of June 25, 2012, on page 37779 in the second column, paragraph (e)(1)(i) of AD 2012-12-21 is corrected to read as follows:

* * * * *

(i) “Emergency and Malfunction Procedures”: pages 3-3 and 3-3a, and

* * * * *

Issued in Fort Worth, Texas, on August 9, 2012.
Kim Smith,
Manager, Rotorcraft Directorate, Aircraft Certification Service.

[FR Doc. 2012-20177 Filed 8-16-12; 8:45 am]

BILLING CODE 4910-13-P